DEPARTMENT OF COMMERCE

International Trade Administration

[A-570-827]

Certain Cased Pencils From the People's Republic of China: Preliminary Results of Antidumping Duty Administrative Review and Partial Rescission; 2014—2015

AGENCY: Enforcement and Compliance, International Trade Administration, Department of Commerce.

SUMMARY: In response to requests from interested parties, the Department of Commerce (the Department) is conducting an administrative review of the antidumping duty order on certain cased pencils (pencils) from the People's Republic of China (PRC). The period of review (POR) is December 1, 2014, through November 30, 2015. The Department preliminarily finds that Shandong Rongxin Import & Export Co., Ltd. (Rongxin) is not eligible for a separate rate, and, thus, remains part of the PRC-wide entity. In addition, we are rescinding the administrative review with respect to Orient International Holding Shanghai Foreign Trade Co., Ltd. (SFTC), and Wah Yuen Stationery Co. Ltd. and its affiliate, Shandong Wah Yuen Stationery Co. Ltd., and its claimed affiliate, Tianjin Tonghe Stationery Co. Ltd. (collectively, Wah Yuen), because the requests for administrative review of these companies were timely withdrawn. Interested parties are invited to comment on these preliminary results.

DATES: Effective November 21, 2016.

FOR FURTHER INFORMATION CONTACT: Mary Kolberg, AD/CVD Operations, Office I, Enforcement and Compliance, International Trade Administration, Department of Commerce, 1401 Constitution Avenue NW., Washington, DC 20230; telephone: (202) 482-1785.

SUPPLEMENTARY INFORMATION:

Background

On December 1, 2015, the Department published a notice of an opportunity to request an administrative review of the antidumping duty order on cased pencils from the PRC.¹ On December 30, 2015, Dixon Ticonderoga Company (Dixon) requested an administrative review of Rongxin, and Wah Yuen.² On December 31, 2015, SFTC requested an administrative review of its own exports during the POR.³ On February 9, 2016, the Department initiated a review of Rongxin, SFTC, and Wah Yuen.⁴ On March 30, 2016, SFTC timely withdrew its request for administrative review.⁵ Finally, on May 5, 2016, Dixon timely withdrew its request for an administrative review of Wah Yuen.⁶

¹ See Antidumping and Countervailing Duty Order, Finding, Or Suspended Investigation; Opportunity To Request Administrative Review, 80 FR 75078 (December 1, 2015).

² See letter from Dixon, re: “Certain Cased Pencils from the People's Republic of China: Request for Administrative Review,” dated December 30, 2015.

³ See letter from SFTC, re: “Request for Administrative Review of the Antidumping Duty Order on Certain Cased Pencils from the People's Republic of China,” dated December 31, 2015.

⁴ See Initiation of Antidumping and Countervailing Duty Administrative Reviews, 81 FR 6832 (February 9, 2016) (Initiation Notice).

⁵ See letter from SFTC, re: “Withdrawal of Request for Review: Administrative Review of the Antidumping Order on Cased Pencils from the People's Republic of China,” dated March 30, 2016.

⁶ See letter from Dixon, re: “Certain Cased Pencils from the People's Republic of China: Partial Withdrawal of Request for Administrative Review,” dated May 5, 2016.

Scope of the Order

The merchandise subject to the order includes certain cased pencils from the PRC. The subject merchandise is currently classifiable under Harmonized Tariff Schedule of the United States (HTSUS) subheading 9609.1010. A full description of the scope of the order is contained in the Preliminary Decision Memorandum.⁷ Although the HTSUS subheadings are provided for convenience and customs purposes, the written product description is dispositive.

⁷ See Memorandum from Christian Marsh, Deputy Assistant Secretary for Antidumping and Countervailing Duty Operations, to Paul Piquado Assistant Secretary for Enforcement and Compliance, “Decision Memorandum for Preliminary Results of Antidumping Duty Administrative Review and Partial Rescission: Certain Cased Pencils from the People's Republic of China; 2014—2015,” dated concurrently with and hereby adopted by this notice (Preliminary Decision Memorandum).

Partial Rescission of the Administrative Review

Pursuant to 19 CFR 351.213(d)(1), the Secretary will rescind an administrative review, in whole or in part, if a party that requested the review withdraws the request within 90 days of the date of publication of the Initiation Notice. On March 30, 2016, SFTC timely withdrew its request for a review of its own exports and, on May 5, 2016, Dixon timely withdrew its request for a review of Wah Yuen. Accordingly, the Department is rescinding this administrative review with respect to SFTC and Wah Yuen.

Methodology

The Department is conducting this review in accordance with section 751(a)(1)(B) of the Tariff Act of 1930, as amended (the Act). We have preliminary determined that Rongxin is not eligible for a separate rate; as such, the Department has not calculated a margin for these preliminary results. For a full description of the methodology and analysis underlying our determination, see the Preliminary Decision Memorandum.⁸ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov, and it is available to all parties in the Department's Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

⁸ A list of topics discussed in the Preliminary Decision Memorandum is provided at Appendix I to this notice.

Preliminary Results of Review

The Department preliminarily determines that, for the period December 1, 2014, through November 30, 2015, Shandong Rongxin Import & Export Co., Ltd. is part of the PRC-wide entity. The rate applicable to the PRC-wide entity is 114.90 percent.⁹

⁹ See Notice of Amended Final Results and Partial Rescission of Antidumping Duty Administrative Review: Certain Cased Pencils from the People's Republic of China, 67 FR 59049 (September 19, 2002).

Disclosure and Public Comment

The Department will disclose the analysis performed for these preliminary results within five days of the date of publication of this notice.¹⁰ Interested parties may submit case briefs no later than 30 days after the date of publication of the preliminary results.¹¹ Rebuttals, limited to issues raised in the case briefs, may be filed no later than five days after the deadline for filing case briefs.¹² Parties submitting briefs should do so pursuant to the Department's electronic filing system ACCESS.

¹⁰ See 19 CFR 351.224(b).

¹¹ See 19 CFR 351.309(c)(ii).

¹² See 19 CFR 351.309(d).

Any interested party may request a hearing within 30 days of publication of this notice.¹³ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁴

¹³ See 19 CFR 351.310(c).

¹⁴ See 19 CFR 351.310(d).

The Department intends to issue the final results of this administrative review, including the results of its analysis of issues raised in any briefs, within 120 days of publication of these preliminary results, pursuant to section 751(a)(3)(A) of the Act, unless extended.

Assessment Rates

Upon issuing the final results of review, the Department will determine, and U.S. Customs and Border Protection (CBP) shall assess, antidumping duties on all appropriate entries covered by this review.¹⁵ The Department intends to issue appropriate assessment instructions to CBP 15 days after publication of the final results of review. We intend to instruct CBP to liquidate entries containing subject merchandise exported by the PRC-wide entity at the current rate for the PRC-wide entity (i.e., 114.90 percent).

¹⁵ See 19 CFR 351.212(b)(1).

If, in the course of this review, we reverse our preliminary determination and find that Rongxin is eligible for a separate rate, and Rongxin's weighted-average dumping margin is above de minimis (i.e., 0.50 percent) in the final results of this review, we will calculate importer-specific ad valorem rates on the basis of the ratio of the total amount of dumping calculated for the importer's examined sales to the total entered value of those sales, in accordance with 19 CFR 351.212(b)(1). Where an importer-specific ad valorem rate is zero or de minimis, the Department will instruct CBP to liquidate appropriate entries without regard to antidumping duties.¹⁶ For entries that were not reported in the U.S. sales data submitted by Rongxin, the Department will instruct CBP to liquidate such entries at the rate for the PRC-wide entity.

¹⁶ See 19 CFR 351.106(c)(2).

The final results of this review shall be the basis for the assessment of antidumping duties on entries of merchandise covered by the final results of this review and for future cash deposits of estimated antidumping duties, where applicable.

Cash Deposit Requirements

The following cash deposit requirements will be effective upon publication of the final results of this administrative review for shipments of the subject merchandise from the PRC entered, or withdrawn from warehouse, for consumption on or after the publication date, as provided by sections 751(a)(2)(C) of the Act: (1) If we reverse our decision that Rongxin is entitled to a separate rate, then the cash deposit rate will be the rate established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity (i.e.,114.90 percent); and (4) for all non-PRC exporters of subject merchandise which have not received their own rate, the cash deposit rate will be the rate applicable to the PRC exporter that supplied that non-PRC exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213(d)(4) and 351.221(b)(4).

Dated: November 15, 2016.
Paul Piquado,
Assistant Secretary for Enforcement and Compliance.

Appendix I

List of Topics Discussed in the Preliminary Decision Memorandum

I. Summary

II. Background

III. Scope of the Order

IV. Partial Rescission of Review

V. Discussion of the Methodology

a. Non-Market Economy Country

b. Separate Rate

VI. Preliminary Results of Review

VII. Recommendation

[FR Doc. 2016-27960 Filed 11-18-16; 8:45 am]

BILLING CODE 3510-DS-P